DEPARTMENT OF ENERGY

Federal Energy Regulatory Commission

[Docket No. CP07-447-000]

Northern Natural Gas Company; Notice of Application

September 17, 2007.

Take notice that on September 6, 2007, Northern Natural Gas Company (Northern), 1111 South 103rd Street, Omaha, Nebraska 68124, filed in Docket No. CP07-447-000 an application pursuant to sections 7(b) and 7(c) of the Natural Gas Act (NGA) for (1) Permission and approval to abandon in place certain compression facilities at Northern's Ogden compressor station in Boone County, Iowa; and (2) construct, modify, and operate certain compression facilities at Northern's Redfield compressor station in Dallas County, Iowa, all as more fully set forth in the application which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

Northern proposes to abandon in place two horizontal compressor units with a total of 3,200 Horsepower (HP) installed at the Ogden compressor station in 1951. Northern states that it also would install a newer 1,400 HP compressor unit ¹ at the Redfield compressor station to replace the abandoned compressor units at the Ogden compressor station. Northern asserts that its proposed abandonment and replacement of compressor units would provide cost savings by reusing an existing unit rather than acquiring a new unit; potential fuel savings; increase operating effectiveness; increase operational reliability; and decrease environmental impact by using lower horsepower, as well as the differences between the Ogden horizontal units and the Sublette compressor unit. Northern estimates that it would spend $4,332,286 for this proposal with internally generated funds. Northern states that its proposed facilities would enable it to continue to meet existing customers' requirements.

¹ Northern would use a previously abandoned 1,400 HP compressor unit from its Sublette compressor station rather than acquiring a new compressor unit to install at the Redfield compressor station.

Any questions regarding this application should be directed to Michael T. Loeffler, Senior Director of Certificates and External Affairs for Northern, 1111 South 103rd Street, Omaha, Nebraska 68124, at (402) 398-7103 or Bret Fritch, Senior Regulatory Analyst, at (402) 398-7140.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's Web site under the “e-Filing” link.

Comment Date: 5 p.m. Eastern Time on October 9, 2007.

Kimberly D. Bose,
Secretary.

[FR Doc. E7-18658 Filed 9-20-07; 8:45 am]

BILLING CODE 6717-01-P